DEPARTMENT OF HOUSING AND URBAN DEVELOPMENT

[Docket No. FR-4909-N-05]

Notice of Proposed Information Collection for Public Comment on the Mortgage Seekers Survey

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: June 28, 2004.

ADDRESSES: Interested persons are invited to submit comments regarding this proposal. Comments should refer to the proposal by name and/or OMB Control number and should be sent to: Reports Liaison Officer, Policy Development and Research, Department of Housing and Urban Development, 451 7th Street, SW., Room 8226, Washington, DC 20410-5000.

FOR FURTHER INFORMATION CONTACT: William Reeder, Director, Housing Finance Analysis Division, Office of Policy Development and Research, Department of Housing and Urban Development, 451 7th Street, SW., Washington, DC 20410-5000; (202) 708-0421, extension 5876. (This is not a toll-free number). Copies of the proposed forms and other available documents submitted to OMB may be obtained from Mr. Reeder.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology; e.g., permitting electronic submission of responses.

This Notice also lists the following information:

Title of Proposal: Mortgage Seekers Survey.

Description of the need for the information and proposed use: This request is for the clearance of a survey instrument designed to measure the experience of Americans who have recently been through the process of seeking a mortgage. Especially important in this study is to evaluate the potential differences in experiences of minorities when seeking a mortgage. The purpose of the survey is to: (1) Identify those who have been through the mortgage seeking process in the past year, or purchased a first home within the past 3 years; (2) Ascertain the level of preparation, support, and knowledge before beginning the search for a mortgage, as well as identifying specific behaviors and experiences during the mortgage seeking process; and (3) Conduct a large enough survey, using disproportionate sampling, to assess the experiences of specific racial/ethnic groups versus the national average. Specific groups of interest are African Americans, and Hispanics/Latinos.

OMB Approval Number: Pending.

Agency Form Numbers: None.

Members of Affected Public: Individuals.

Estimation of the total number of hours needed to prepare the information collection including number of respondents, frequency of response, and hours of response: The primary study will involve screening 9,473 households and 1,800 individuals will be surveyed. Average time to complete the screener is 2 minutes, and the time to complete the survey is 15 minutes. Respondents will only be contacted once. Total burden hours are 770.

Status of the proposed information collection: Pending OMB approval.

Authority: Section 3506 of the Paperwork Reduction Act of 1995, 44 U.S.C. Chapter 35, as amended.

Dated: April 19, 2004.
Darlene F. Williams,
General Deputy Assistant Secretary for Policy Development and Research.

[FR Doc. 04-9535 Filed 4-26-04; 8:45 am]

BILLING CODE 4210-62-M